DEPARTMENT OF ENERGY

Western Area Power Administration

Post-2004 Resource Pool-Loveland Area Projects

AGENCY: Western Area Power Administration, DOE.

ACTION: Notice of proposed allocation.

SUMMARY: Western Area Power Administration (Western), a Federal power marketing agency of the Department of Energy (DOE), announces its Post-2004 Resource Pool Proposed Allocation of Power developed under the requirements of Subpart C—Power Marketing Initiative of the Energy Planning and Management Program (Program) Final Rule, 10 CFR part 905.

Western's call for applications was published in the Federal Register at 65 FR 12987, March 10, 2000. Applications for power were accepted at Western's Rocky Mountain Customer Service Region until close of business September 6, 2000. Review of those applications resulted in the Proposed Allocation of Power published in this notice.

DATES: The comment period on the Proposed Allocation of Power begins today and ends September 10, 2001. To be assured of consideration, Western must receive all written comments by the end of the comment period. Western will hold public information forums about the proposed allocations on August 2, 7, and 9, 2001, at the following locations and times:

1. August 2, 2001, information forum begins at 10 a.m. in Westminster, Colorado.

2. August 7, 2001, information forum begins at 10 a.m. in Casper, Wyoming.

3. August 9, 2001, information forum begins at 10 a.m. in Topeka, Kansas.

ADDRESSES: Send written comments about these proposed allocations to: Mr. Joel K. Bladow, Regional Manager, Rocky Mountain Customer Service Region, Western Area Power Administration, P.O. Box 3700, Loveland, CO 80539-3003. Comments may also be faxed to 970-461-7213 or e-mailed to POST2004LAP@WAPA.GOV. All documentation developed or retained by Western for the purpose of developing the proposed allocations is available for inspection and copying at the Rocky Mountain Customer Service Region Office, at 5555 East Crossroads Boulevard, Loveland, CO 80538-8986.

Public information forums will be held at:

1. Fairfield Inn, 12080 Melody Drive, Westminster, Colorado.

2. Holiday Inn Casper, 300 West “F” Street, Casper, Wyoming.

3. Capitol Plaza Hotel, 1717 SW Topeka Boulevard, Topeka, Kansas.

FOR FURTHER INFORMATION CONTACT: Ron Steinbach, Power Marketing Manager, 970-461-7322; David Holland, Project Manager, 970-461-7505; or Susan Steshyn, Public Utilities Specialist, 970-461-7237. Written requests for information should be sent to Rocky Mountain Customer Service Region, Western Area Power Administration, P.O. Box 3700, Loveland, CO 80539-3003, faxed to 970-461-7213, or e-mailed to POST2004LAP@WAPA.GOV.

SUPPLEMENTARY INFORMATION: Western published Final Post-2004 Resource Pool Allocation Procedures on August 29, 2000, at 65 FR 52419, to implement Subpart C—Power Marketing Initiative of the Program's Final Rule, 10 CFR part 905, published at 60 FR 54151. The Program, developed in part to implement section 114 of the Energy Policy Act of 1992, became effective on November 20, 1995. The goal of the Program is to require planning and efficient electric energy use by Western's long-term firm power customers and to extend Western's firm power resource commitments. One aspect of the Program is to establish project-specific power resource pools and allocate power from these pools to new preference customers. Those final procedures, in conjunction with the Post-1989 Marketing Plan (51 FR 4012, January 31, 1986), establish the framework for allocating power from the resource pool established for the Loveland Area Projects (LAP). Only comments relevant to the proposed allocations will be accepted during the comment period. After all public comments have been thoroughly considered, Western will prepare and publish the Final Allocations of Power in the Federal Register.

I. Amount of Pool Resources

Western will allocate up to 4 percent of the LAP long-term firm hydroelectric resource available as of October 1, 2004, as firm power. Current hydrologic studies indicate that about 28 megawatts (MW) capacity and 44 Gigawatthours (GWh) of energy will be available for the summer season. Approximately 24 MW capacity and 35 GWh of energy will be available for the winter season. Firm power means firm capacity and associated energy allocated by Western and subject to the terms and conditions specified in Western's long-term firm power electric service contracts.

II. Proposed Allocation of Power

Written comments on the Proposed Allocation of Power must be received at the address above by close of business on September 10, 2001. Western will respond to comments received on the Proposed Allocation of Power and publish the final allocations after the end of the comment period.

Western received 40 applications for the Post-2004 LAP resource pool. Applicants requested total allocations of 1,900 GWh in the summer season and 1,700 GWh in the winter season. Proposed seasonal capacity allocations for all allottees are based on the proposed seasonal energy data shown in the following tables and is calculated from the LAP seasonal plant factors of 36.7 percent in the summer season and 33.4 percent in the winter season. Initial review of the applications indicated that 6 of the 40 applicants did not meet the minimum allocation qualifications published at 65 FR 52419. Review of data from the remaining 34 applicants resulted in 25 proposed allocations of the Post-2004 LAP resource pool.

The proposed allocations for Native American allottees are shown in this table.

Native American allottees | Proposed post-2004 power allocation: Summer kilowatthours | Proposed post-2004 power allocation: Winter kilowatthours | Proposed post-2004 power allocation: Summer kilowatts | Proposed post-2004 power allocation: Winter kilowatts
Iowa Tribe of Kansas and Nebraska | 1,986,640 | 1,722,043 | 1,232 | 1,180
Kickapoo Tribe in Kansas | 2,760,701 | 2,323,337 | 1,713 | 1,592
Prairie Band Potawatomi Nation | 5,536,170 | 4,458,846 | 3,435 | 3,056
Sac and Fox Nation of Missouri | 2,690,754 | 2,289,904 | 1,669 | 1,570
Wind River Reservation (Eastern Shoshone and Northern Arapaho Tribes) | 1,828,963 | 1,718,007 | 1,135 | 1,178

Facilities that represented non Native American load on the reservations were not considered as eligible for the allocation process. Native American facilities that were completed or substantially near completion on the application due date were considered eligible load. The Native American seasonal energy data was adjusted to account for those eligibility factors prior to the allocation process.

Native American allottees received a Western hydropower benefit totaling 65 percent of eligible load in both the summer and winter season based on the adjusted seasonal energy data submitted. The 65 percent Western hydropower benefit is inclusive of current service received through serving utilities and future service that will be received by serving utilities as a result of this allocation process.

Based on the applications submitted by the Northern Arapaho and the Eastern Shoshone tribes, Western could not differentiate between each tribe's load. The data from each tribe was used to propose an allocation for the Wind River Reservation instead of each tribe. The 65 percent Western hydropower benefit for the Wind River Reservation includes an estimated allocation from Western's Salt Lake City Area Integrated Projects resource pool and the Western service currently received from the Reservation's serving utility.

After proposed allocations were made to Native American allottees, utility and nonutility proposed allocations were allotted based on a pro-rata share of the remaining resource pool and application of the minimum and maximum allocation criteria to that pro-rata share. The proposed allocations for utility and nonutility allottees are listed here.

Utility and nonutility allottees | Proposed post-2004 power allocation: Summer kilowatthours | Proposed post-2004 power allocation: Winter kilowatthours | Proposed post-2004 power allocation: Summer kilowatts | Proposed post-2004 power allocation: Winter kilowatts
City of Chapman, KS | 257,680 | 169,378 | 160 | 116
City of Elwood, KS | 169,562 | 145,528 | 105 | 100
City of Eudora, KS | 998,125 | 691,651 | 619 | 474
City of Fountain, CO | 3,785,880 | 2,872,807 | 2,349 | 1,969
City of Garden City, KS | 3,785,880 | 2,872,807 | 2,349 | 1,969
City of Goodland, KS | 1,588,254 | 1,230,315 | 985 | 843
City of Horton, KS | 441,108 | 317,470 | 273 | 218
City of Hugoton, KS | 753,878 | 637,494 | 468 | 437
City of Johnson City, KS | 446,670 | 340,573 | 277 | 233
City of Meade, KS | 504,527 | 316,964 | 313 | 217
City of Minneapolis, KS | 544,660 | 343,822 | 338 | 236
City of Troy, KS | 195,112 | 152,529 | 121 | 105
Doniphan Electric Cooperative Association, Inc., KS | 467,191 | 389,080 | 290 | 267
Fort Carson, CO | 3,188,774 | 2,678,064 | 1,978 | 1,836
Kaw Valley Electric, KS | 3,334,693 | 2,486,473 | 2,069 | 1,704
Midwest Energy, Inc., KS | 3,785,880 | 2,872,807 | 2,349 | 1,969
Nemaha-Marshall Electric Cooperative Association, Inc., KS | 1,145,788 | 984,083 | 711 | 674
Regional Transportation District, Denver, CO | 331,820 | 291,245 | 206 | 200
Sunflower Electric Power Corporation, KS | 3,785,880 | 2,872,807 | 2,349 | 1,969
Yellowstone National Park, WY | 224,113 | 146,018 | 139 | 100

The proposed allocations shown in the tables above are based on the LAP marketable resource available at this time. If the LAP marketable resource is adjusted in the future, all allocations will be adjusted accordingly.

III. Review Under the Regulatory Flexibility Act

The Regulatory Flexibility Act, 5 U.S.C. 601-621 (Act), requires Federal agencies to perform a regulatory flexibility analysis if a proposed regulation is likely to have a significant economic impact on a substantial number of small entities. Western has determined that (1) this rulemaking relates to services offered by Western, and, therefore, is not a rule within the purview of the Act, and (2) the impacts of an allocation from Western would not cause an adverse economic impact on a substantial number of such entities. The requirements of this Act can be waived if the head of the agency certifies that the rule will not, if promulgated, have a significant economic impact on a substantial number of small entities. By the execution of this Federal Register notice, Western's Administrator certifies that no significant economic impact on a substantial number of small entities will occur.

IV. Review Under the Paperwork Reduction Act

In accordance with the Paperwork Reduction Act of 1980, 44 U.S.C. 3501-3520, Western has received approval from the Office of Management and Budget (OMB) to collect customer information in this rule, under control number 1910-1200.

V. Review Under the National Environmental Policy Act

Western has completed an environmental impact statement on the Program, pursuant to the National Environmental Policy Act of 1969 (NEPA). The Record of Decision was published in the Federal Register on October 12, 1995 (60 FR 53181). Western's NEPA review assured all environmental effects related to these procedures have been analyzed.

VI. Determination Under Executive Order 12866

DOE has determined that this is not a significant regulatory action because it does not meet the criteria of Executive Order 12866, 58 FR 51735. Western has an exemption from centralized regulatory review under Executive Order 12866; accordingly, no clearance of this notice by OMB is required.

Dated: April 30, 2001.
Michael S. Hacskaylo,
Administrator.

[FR Doc. 01-11927 Filed 5-10-01; 8:45 am]

BILLING CODE 6450-01-P